DEPARTMENT OF JUSTICE

Notice of Lodging of Consent Decree Under the Clean Water Act

Notice is hereby given that on May 10, 2012, a proposed Consent Decree in United States v. City of Unalaska and State of Alaska, Civ. A. No. 3:11-cv-00133-HRH, was lodged with the United States Court for the District of Alaska.

The Complaint filed in this action in June 2011 asserts claims against the City of Unalaska under Sections 301 and 309 of the Clean Water Act, 33 U.S.C. 1311 and 1319, arising from the City's violation of the National Pollution Discharge Elimination System Permit (“NPDES Permit”) for its wastewater treatment plant. The Consent Decree requires the City to construct and operate four upgrades to its wastewater treatment system that will enable it to comply with the permit, which include upgrading its treatment plant to chemically enhanced primary treatment. In addition to requiring the City to comply with the NPDES permit, the consent decree requires the City to adhere to a limit for fecal coliform bacteria that is more stringent than the permit limit until at least mid-2020. The City also will pay a $340,000 civil penalty.

The Department of Justice will receive for a period of thirty (30) days from the date of this publication comments relating to the Second Consent Decree. Comments should be addressed to the Assistant Attorney General, Environment and Natural Resources Division, and either emailed to pubcomment-ees.enrd@usdoj.gov or mailed to P.O. Box 7611, U.S. Department of Justice, Washington, DC 20044-7611, and should refer to United States v. the City of Unalaska and State of Alaska, 90-5-1-1-09888.

During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $10.75 (25 cents per page reproduction cost) payable to the U.S. Treasury or, if requesting by email or fax, forward a check in that amount to the Consent Decree Library at the address given above.

Robert E. Maher, Jr.,
Assistant Section Chief, Environmental Enforcement Section, Environment and Natural Resources Division.

[FR Doc. 2012-11791 Filed 5-15-12; 8:45 am]

BILLING CODE 4410-15-P